MARINE MAMMAL COMMISSION

Classified National Security Information

[Directive 11-01]

AGENCY: Marine Mammal Commission.

ACTION: Notice.

SUMMARY: This notice sets out the establishment of the Marine Mammal Commission's (MMC) policy on classified information, as directed by Information Security Oversight Office regulations.

FOR FURTHER INFORMATION CONTACT: Catherine Jones, Administrative Officer, Marine Mammals Commission, (301) 504-0087.

SUPPLEMENTARY INFORMATION: The following is the text of MMC's Directive 11-01 of October 25, 2010:

Directive 11-01 October 25, 2010

1. PURPOSE. This directive implements the requirements of Executive Order 13526, “Classified National Security Information,” and 32 CFR part 2001, “Classified National Security Information,” by establishing Marine Mammal Commission policy on classified information.

2. REFERENCES.

a. Executive Order 13526, “Classified National Security Information,” December 29, 2009

b. 32 CFR part 2001, “Classified National Security Information,” June 25, 2010

3. SCOPE. This directive applies to all Marine Mammal Commission employees.

4. BACKGROUND. The Marine Mammal Commission is a micro agency of 14 full time permanent employees. Three employees have current Secret clearances and one staff has a Top Secret clearance. These employees require clearances because they attend meetings where classified information may be discussed. None of the Commission staff have approved Information Security Oversight Office (ISOO) original classification authority. The Commission does not originate, receive, or store classified documents.

5. POLICY. It is Commission policy to ensure the safeguarding of national security information in accordance with established rules and regulations. The Commission will:

a. Designate a senior official to direct and administer the Commission's security program

(1) The senior official will oversee the Commission's program established under this directive and institute procedures consistent with directives issued pursuant to this order to prevent unnecessary access to classified information, including procedures that require a need for access to classified information and the insurance that the number of persons granted access to classified information meets the mission needs of the Commission while also satisfying operational and security requirements and needs

(2) The senior agency official or the Executive Director shall take appropriate and prompt corrective action when a violation or infraction occurs and notify the Director of the Information Security Oversight Office

b. Ensure that the Commission's GSA approved security container is available to store classified documents should the Commission receive such documents

c. Instruct Commission staff on the proper procedures for handling classified information

6. RESPONSIBILITIES.

a. The Executive Director will appoint in writing a Security Manager

b. The Security Manager will ensure that authorized persons who have access to classified information are responsible for:

(1) Protecting it from persons without authorized access to include securing it in an approved container

(2) Meeting the safeguarding requirements

(3) Ensuring that classified information is not communicated over unsecured voice or data circuits, in public conveyances or places, or in any other manner that permits interception by unauthorized persons

(4) Establish an information security training program

c. Employees whose duties involve the handling of classified information will be rated on

their performance on the management of classified information

7. DISCIPLINARY AND CORRECTIVE ACTION. Failure to safeguard classified national security information may result in disciplinary action. Applicable consequences may include the following: Reprimand, suspension without pay, removal from federal service, loss or denial of access to classified information, or other sanctions in accordance with applicable laws and regulations.

8. EFFECTIVE DATE. This directive shall take effect on October 25, 2010.

October 25, 2010.
Timothy J. Ragen,
Executive Director.
Editor's note: This document was received by the Office of the Federal Register on June 6, 2011.

[FR Doc. 2011-14593 Filed 6-13-11; 8:45 am]

BILLING CODE P